DEPARTMENT OF COMMERCE

National Telecommunications and Information Administration

First Responder Network Authority

Public Finance Committee and Board Meeting

AGENCY: First Responder Network Authority (FirstNet Authority), National Telecommunications and Information Administration (NTIA), U.S. Department of Commerce.

ACTION: Announcement of meeting.

SUMMARY: The FirstNet Authority Board will convene an open public meeting of the Finance Committee and the Board.

DATES: August 18, 2020; 11:00 a.m. to 1:00 p.m. Eastern Standard Time (EST); WebEx.

ADDRESSES: The public meeting will be conducted via teleconference and WebEx only. Members of the public may listen to the meeting by dialing toll-free: 1-800-369-1723 and entering participant code 2081846#. If you experience technical difficulty, please contact the Conferencing Center Customer Service at: 1-866-900-1011. To view the slide presentation, the public may visit the URL: http://www.mymeetings.com/nc/join and enter Conference Number: PWXW1405729 and Audience Passcode: 2081846. Alternately, members of the public may view the slide presentation by directly visiting the URL: https://www.mymeetings.com/nc/join.php?i=PWXW1405729&p=2081846&t=c. The teleconference and WebEx information can also be found on the FirstNet website (FirstNet.gov).

FOR FURTHER INFORMATION CONTACT: For general information: Janell Smith, (202) 257-5929, Janell.Smith@FirstNet.gov.

For media inquiries: Ryan Oremland, (571) 665-6186, Ryan.Oremland@FirstNet.gov.

SUPPLEMENTARY INFORMATION: Background: The Middle Class Tax Relief and Job Creation Act of 2012 (codified at 47 U.S.C. 1401 et seq.) (Act) established the FirstNet Authority as an independent authority within NTIA. The Act directs the FirstNet Authority to ensure the building, deployment, and operation of a nationwide interoperable public safety broadband network. The FirstNet Authority Board is responsible for making strategic decisions regarding the FirstNet Authority's operations.

Matters to be Considered: The FirstNet Authority will post a detailed agenda for the Finance Committee and Board Meeting on FirstNet.gov prior to the meeting. The agenda topics are subject to change. Please note that the subjects discussed by the Finance Committee and Board may involve commercial or financial information that is privileged or confidential, or other legal matters affecting the FirstNet Authority. As such, the Board and Committee Chairs may call for a vote to close the meeting only for the time necessary to preserve the confidentiality of such information, pursuant to 47 U.S.C. 1424(e)(2).

Other Information: The public Finance Committee and Board meeting is accessible to people with disabilities. Individuals requiring accommodations, such as sign language interpretation or other ancillary aids, are asked to notify Ms. Janell Smith at (202) 257-5929 or email: Janell.Smith@FirstNet.gov at least five (5) business days (August 11) before the meeting.

Records: The FirstNet Authority maintains records of all Board proceedings. Minutes of the Finance Committee and Board meeting will be available on FirstNet.gov.

Dated: August 3, 2020.
Janell Smith,
Board Secretary, First Responder Network Authority.

[FR Doc. 2020-17227 Filed 8-6-20; 8:45 am]

BILLING CODE P